ENVIRONMENTAL PROTECTION AGENCY

[EPA-HQ-OW-2008-0719; FRL-9925-35-OEI]

Information Collection Request Submitted to OMB for Review and Approval; Comment Request; Effluent Guidelines and Standards for the Airport Deicing Category (Renewal)

AGENCY: Environmental Protection Agency (EPA).

ACTION: Notice.

SUMMARY: The Environmental Protection Agency (EPA) has submitted an information collection request (ICR), “Effluent Guidelines and Standards for the Airport Deicing Category (Renewal)” (EPA ICR No. 2326.03, OMB Control No. 2040-0285) to the Office of Management and Budget (OMB) for review and approval in accordance with the Paperwork Reduction Act (44 U.S.C. 3501 et seq.). This is a proposed extension of the ICR, which is currently approved through March 31, 2015. Public comments were previously requested via the Federal Register (79 FR 78428) on December 30, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before April 27, 2015.

ADDRESSES: Submit your comments, referencing Docket ID No. EPA-HQ-OW-2008-0719, to (1) EPA online using www.regulations.gov (our preferred method), by email to ow-docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Sarita Hoyt, State and Regional Branch, Water Permits Division, OWM Mail Code: 4203M, Environmental Protection Agency, 1200 Pennsylvania Ave. NW., Washington, DC 20460; telephone number: (202) 564-1471; email address: hoyt.sarita@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: This ICR calculates the burden and costs associated with information collection and reporting activities required by EPA's Effluent Limitations Guidelines and New Source Performance Standards for the Airport Deicing Category (40 CFR 449.10 and 449.20). Respondents affected by this information collection request are covered by either EPA's Multi-Sector General Permit (MSGP), an equivalent state stormwater general permit, or an individual stormwater permit, and the NPDES permitting authorities receive, process, and review permit applications, and Notices of Intent (NOIs). Permitting authorities will also process and review certifications of non-use of urea-based deicers, and monitoring data as applicable.

Form Numbers: None.

Respondents/affected entities: Commercial airports with at least 1,000 annual non-propeller aircraft departures.

Respondent's obligation to respond: Mandatory (40 CFR 449.10 and 449.20).

Estimated number of respondents: 198 (total).

Frequency of response: Annual.

Total estimated burden: 198 hours (per year). Burden is defined at 5 CFR 1320.03(b).

Total estimated cost: $6,534 (per year), includes $0 annualized capital or operation & maintenance costs.

Changes in the Estimates: There is no change in the total estimated respondent burden compared with the ICR currently approved by OMB.

Courtney Kerwin,
Acting Director, Collection Strategies Division.

[FR Doc. 2015-06908 Filed 3-25-15; 8:45 am]

BILLING CODE 6560-50-P